DEPARTMENT OF HOMELAND SECURITY

Federal Emergency Management Agency

44 CFR Part 64

[Docket ID FEMA-2019-0003; Internal Agency Docket No. FEMA-8609]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at https://www.fema.gov/national-flood-insurance-program-community-status-book.

DATES: The effective date of each community's scheduled suspension is the third date (“Susp.”) listed in the third column of the following tables.

FOR FURTHER INFORMATION CONTACT: If you want to determine whether a particular community was suspended on the suspension date or for further information, contact Adrienne L. Sheldon, PE, CFM, Federal Insurance and Mitigation Administration, Federal Emergency Management Agency, 400 C Street SW, Washington, DC 20472, (202) 212-3966.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. FEMA has determined that the community suspension(s) included in this rule is a non-discretionary action and therefore the National Environmental Policy Act of 1969 (42 U.S.C. 4321 et seq.) does not apply.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assist- ance no longer available in SFHAs
Region V
Minnesota: Halstad, City of, Norman County | 270324 | February 5, 1975, Emerg; June 15, 1979, Reg; December 20, 2019, Susp | Dec. 20, 2019. | Dec. 20, 2019.
Region VI
Texas:
Aransas County, Unincorporated Areas | 485452 | June 19, 1970, Emerg; August 6, 1971, Reg; December 20, 2019, Susp | ......do* | Do.
Austin, City of, Hays, Travis and Williamson Counties | 480624 | May 9, 1975, Emerg; September 2, 1981, Reg; December 20, 2019, Susp | ......do | Do.
Leroy, City of, McLennan County | 481314 | N/A, Emerg; January 30, 1980, Reg; December 20, 2019, Susp | ......do | Do
Mount Calm, City of, Hill County | 480863 | March 16, 2010, Emerg; June 2, 2011, Reg; December 20, 2019, Susp | ......do | Do.
Taylor, City of, Williamson County | 480670 | November 7, 1974, Emerg; March 1, 1982, Reg; December 20, 2019, Susp | ......do | Do.
Weir, City of, Williamson County | 481674 | N/A, Emerg; April 19, 1996, Reg; December 20, 2019, Susp | ......do | Do.
West, City of, McLennan County | 480931 | N/A, Emerg; June 4, 2015, Reg; December 20, 2019, Susp | ......do | Do.
Region VII
Iowa:
Atkins, City of, Benton County | 190548 | N/A, Emerg; June 18, 2010, Reg; December 20, 2019, Susp | ......do | Do.
Beaman, City of, Grundy County | 190400 | July 27, 2005, Emerg; October 19, 2005, Reg; December 20, 2019, Susp | ......do | Do.
Belle Plaine, City of, Benton County | 190015 | May 9, 1975, Emerg; August 1, 1986, Reg; December 20, 2019, Susp | ......do | Do.
Benton County, Unincorporated Areas | 190845 | N/A, Emerg; September 10, 2008, Reg; December 20, 2019, Susp | ......do | Do.
Blairstown, City of, Benton County | 190320 | October 30, 2007, Emerg; June 3, 2008, Reg; December 20, 2019, Susp | ......do | Do.
Conrad, City of, Grundy County | 190401 | N/A, Emerg; March 30, 2009, Reg; December 20, 2019, Susp | ......do | Do.
Dike, City of, Grundy County | 190402 | August 17, 1976, Emerg; August 19, 1986, Reg; December 20, 2019, Susp | ......do | Do.
Ellsworth, City of, Hamilton County | 190136 | December 29, 1975, Emerg; August 1, 1987, Reg; December 20, 2019, Susp | ......do | Do.
Garrison, City of, Benton County | 190321 | December 12, 2007, Emerg; June 3, 2008, Reg; December 20, 2019, Susp | ......do | Do.
Grundy Center, City of, Grundy County | 190403 | August 15, 2005, Emerg; October 19, 2005, Reg; December 20, 2019, Susp | ......do | Do.
Grundy County, Unincorporated Areas | 190870 | N/A, Emerg; April 21, 2006, Reg; December 20, 2019, Susp | ......do | Do.
Holland, City of, Grundy County | 190404 | November 7, 1979, Emerg; July 17, 1986, Reg; December 20, 2019, Susp | ......do | Do.
Jewell, City of, Hamilton County | 190600 | September 18, 1996, Emerg; March 1, 2001, Reg; December 20, 2019, Susp | ......do | Do.
Kamrar, City of, Hamilton County | 190406 | N/A, Emerg; December 6, 2005, Reg; December 20, 2019, Susp | ......do | Do.
Morrison, City of, Grundy County | 190953 | N/A, Emerg; October 31, 2005, Reg; December 20, 2019, Susp | ......do | Do.
Newhall, City of, Benton County | 190626 | N/A, Emerg; August 4, 2011, Reg; December 20, 2019, Susp | ......do | Do.
Norway, City of, Benton County | 190632 | January 21, 1994, Emerg; March 1, 1997, Reg; December 20, 2019, Susp | ......do | Do.
Reinbeck, City of, Grundy County | 190646 | N/A, Emerg; January 29, 2008, Reg; December 20, 2019, Susp | ......do | Do.
Shellsburg, City of, Benton County | 190319 | September 2, 1993, Emerg; September 3, 1997, Reg; December 20, 2019, Susp | ......do | Do.
Urbana, City of, Benton County | 190672 | N/A, Emerg; September 12, 2011, Reg; December 20, 2019, Susp | ......do | Do.
Vinton, City of, Benton County | 190016 | July 18, 1974, Emerg; March 2, 1981, Reg; December 20, 2019, Susp | ......do | Do.
Webster City, City of, Hamilton County | 190137 | August 23, 1974, Emerg; August 1, 1978, Reg; December 20, 2019, Susp | ......do | Do.
Wellsburg, City of, Grundy County | 190680 | N/A, Emerg; April 21, 2006, Reg; December 20, 2019, Susp | ......do | Do.
Region VIII
Colorado:
Arvada, City of, Adams and Jefferson Counties | 085072 | April 30, 1971, Emerg; June 23, 1972, Reg; December 20, 2019, Susp | ......do | Do.
Clear Creek County, Unincorporated Areas | 080034 | November 27, 1973, Emerg; March 11, 1980, Reg; December 20, 2019, Susp | ......do | Do.
Georgetown, Town of, Clear Creek County | 080035 | April 9, 1974, Emerg; June 5, 1989, Reg; December 20, 2019, Susp | ......do | Do.
Golden, City of, Jefferson County | 080090 | June 19, 1975, Emerg; May 15, 1985, Reg; December 20, 2019, Susp | ......do | Do.
Idaho Springs, City of, Clear Creek County | 080036 | December 4, 1973, Emerg; November 15, 1978, Reg; December 20, 2019, Susp | ......do | Do.
Jefferson County, Unincorporated Areas | 080087 | July 5, 1973, Emerg; August 5, 1986, Reg; December 20, 2019, Susp | ......do | Do.
Region IX
California:
Carlsbad, City of, San Diego County | 060285 | July 2, 1975, Emerg; June 14, 1977, Reg; December 20, 2019, Susp | ......do | Do.
Chula Vista, City of, San Diego County | 065021 | January 29, 1971, Emerg; August 15, 1983, Reg; December 20, 2019, Susp | ......do | Do.
Coronado, City of, San Diego County | 060287 | February 22, 1974, Emerg; June 1, 1982, Reg; December 20, 2019, Susp | ......do | Do.
Del Mar, City of, San Diego County | 060288 | May 19, 1975, Emerg; August 15, 1983, Reg; December 20, 2019, Susp | ......do | Do.
Encinitas, City of, San Diego County | 060726 | October 22, 1987, Emerg; July 15, 1988, Reg; December 20, 2019, Susp | ......do | Do.
National City, City of, San Diego County | 060293 | January 28, 1972, Emerg; February 15, 1979, Reg; December 20, 2019, Susp | ......do | Do.
Oceanside, City of, San Diego County | 060294 | June 30, 1975, Emerg; September 5, 1984, Reg; December 20, 2019, Susp | ......do | Do.
*......do =Ditto.
Code for reading third column: Emerg.—Emergency; Reg.—Regular; Susp.—Suspension.

Dated: December 10, 2019.
Eric Letvin,
Deputy Assistant Administrator for Mitigation, Federal Insurance and Mitigation Administration—FEMA Resilience, Department of Homeland Security, Federal Emergency Management Agency.

[FR Doc. 2019-26956 Filed 12-13-19; 8:45 am]

BILLING CODE 9110-12-P